DEPARTMENT OF HEALTH AND HUMAN SERVICES

Centers for Disease Control and Prevention

Cooperative Agreement for Research on the Association Between Exposure to Media Violence and Youth Violence

Announcement Type: New.

Funding Opportunity Number: 04060.

Catalog of Federal Domestic Assistance Number: 93.136.

Key Dates:

Letter of Intent Deadline: December 29, 2003.

Application Deadline: February 17, 2004.

I. Funding Opportunity Description

Authority: This program is authorized under section 301 (a) [42 U.S.C. 241(a)] of the Public Health Service Act and section 391 (a)[42 U.S.C. 280b (a)] of the Public Service Health Act, as amended.

Purpose: The purpose of the program is to conduct methodologically sound research on how media violence affects youth violent behavior. This program addresses the “Healthy People 2010” focus area of Injury and Violence Prevention.

Measurable outcomes of the program will be in alignment with the following performance goal for the National Center for Injury Prevention and Control (NCIPC): Conduct a targeted program of research to reduce injury-related death and disability.

Research Objectives

There has been a longstanding concern about the consequences of youths' exposure to violence in the media, with particular concern about the effects of such exposure on violent behavior. Recent studies have documented the profusion of different types of media in United States homes ¹⁻³ and the widespread presence of violence in these media outlets.⁴,⁵ The emergence and proliferation of new media (e.g., video games, music videos, Internet sites, and DVD) have increased opportunities for children and youth to be exposed to violence. Despite the fact that there has been extensive research on this subject, at least three key gaps remain in our understanding of the relationship between youth exposure to media violence and violent behavior. First, more information is needed about the effects of different types of new media and their content on violent behavior. Second, while substantial research has described associations between exposure to violent media on attitudes and measures of aggression, less is known about the extent to which exposure to violent media is associated with risk for more serious forms of violence, including victimization and perpetration resulting in injury. Third, a relatively small subset of youth may be particularly susceptible to the effects of exposure to violent media. Additional research is needed to understand the individual and contextual factors that influence the association between exposure to violent media and risk for violence.

The purpose of the current program announcement is to conduct methodologically sound research on how media influences youth susceptibility to violence. Project proposals should be designed to: (1) Examine the association between exposure to violent media and serious violent behavior, including victimization and perpetration resulting in injury; (2) include an assessment of the specific aspects of media (e.g., type and content) that are likely to contribute to risk for violence; and (3) identify individual and contextual factors that mediate or moderate the association between exposure to violent media and serious violent behavior, with particular attention to the potential moderating effects of gender and prior exposure to real-life violence.

Funding Priority

Priority will be given to research proposals that include a focus on (a) new forms of media; (b) serious forms of violence, including victimization and perpetration resulting in injury; and (c) describing the individual and contextual factors that influence the association between exposure to violent media and risk for violence.

Activities

Awardee activities for this program are as follows:

1. In collaboration with CDC finalize the research design and methodology, data collection measures, analyses, and dissemination of the study results through publication and presentations.

2. In collaboration with CDC finalize a research protocol for Institutional Review Board (IRB) review by all cooperating institutions participating in the research project.

3. Conduct one reverse site visit to meet with CDC staff in Atlanta on an annual basis.

4. Complete all required reports as specified under “Reporting Requirements” of this program announcement.

In a cooperative agreement, CDC staff is substantially involved in the program activities, above and beyond routine grant monitoring.

CDC activities for this program are as follows:

1. Serve as co-investigator and provide scientific oversight. CDC will actively collaborate with project staff on decision-analyses, interpretation of findings, and dissemination of the study results through involvement in the production of publications and presentations.

2. Assist in finalizing the research protocol for IRB review by all cooperating institutions participating in the research project. The CDC IRB will review and approve the protocol initially and on at least an annual basis until the research project is finished.

3. Facilitate regular communication between CDC and the grantee to include, but not limited to site visits, conference calls, meetings, etc.

II. Award Information

Type of Award: Cooperative Agreement. CDC involvement in this program is listed in the Activities Section above.

Fiscal Year Funds: 2004.

Approximate Total Funding: $600,000.

Approximate Number of Awards: Two.

Approximate Average Award: $300,000.

Floor of Award Range: None.

Ceiling of Award Range: $300,000.

Anticipated Award Date: August 2, 2004.

Budget Period Length: 12 months.

Project Period Length: Three years.

Throughout the project period, CDC's commitment to continuation awards will be conditioned on the availability of funds, evidence of satisfactory progress by the recipient (as documented in required reports), and the determination that continued funding is in the best interest of the Federal Government.

III. Eligibility Information

1. Eligible applicants: Applications may be submitted by public and private nonprofit organizations and by governments and their agencies, such as:

• Public nonprofit organizations

• Private nonprofit organizations

• Small, minority, women-owned businesses

• Universities

• Colleges

• Research institutions

• Hospitals

• Community-based organizations

• Faith-based organizations

• Federally recognized Indian tribal governments

• Indian tribes

• Indian tribal organizations

• State and local governments or their bona fide agents (this includes the District of Columbia, the Commonwealth of Puerto Rico, the Virgin Islands, the Commonwealth of Mariana Islands, American Samoa, Guam, the Federated States of Micronesia, the Republic of the Marshall Islands, and the Republic of Palau)

• Political subdivisions of States (in consultation with States)

A Bona Fide Agent is an agency/organization identified by the state as eligible to submit an application under the state eligibility in lieu of a state application. If you are applying as a bona fide agent of a state or local government, you must provide a letter from the state as documentation of your status. Place this documentation behind the first page of your application form.

2. Cost Sharing or Matching: Matching funds are not required for this program.

3. Other Eligibility Requirements:

Applications that are incomplete or non-responsive to the below requirements will be returned to the applicant without further consideration. You will be notified that your application did not meet submission requirements.

The following are applicant requirements:

1. A principal investigator who has conducted research, published the findings in peer-reviewed journals, and has specific authority and responsibility to carry out the proposed project.

2. Demonstrated experience on the applicant's project team in conducting, evaluating, and publishing violence prevention research in peer-reviewed journals.

3. Effective and well-defined working relationships within the performing organization and with outside entities, which will ensure implementation of the proposed activities.

4. The overall match between the applicant's proposed research objectives and the program priorities as described under the heading, “Funding Priority”.

5. The requested funding amount should not be greater than the ceiling of the award amount.

6. Principal investigators (PI's) are encouraged to submit only one proposal in response to this program announcement. With few exceptions (e.g., research issues needing immediate public health attention), only one application per PI will be funded under this announcement.

Note: Title 2 of the United States Code section 1611 states that an organization described in section 501(c)(4) of the Internal Revenue Code that engages in lobbying activities is not eligible to receive Federal funds constituting an award, grant, or loan.

IV. Application and Submission Information

1. Address to Request Application Package

To apply for this funding opportunity, use application Form PHS 398 (OMB Number 0925-0001 rev. 5/2001). Forms and instructions are available in an interactive format on the CDC Web site, at the following Internet address: http://www.cdc.gov/od/pgo/forminfo.htm.

Forms and instructions are also available in an interactive format on the National Institutes of Health (NIH) web site at the following Internet address: http://grants.nih.gov/grants/funding/phs398/phs398.html. If you do not have access to the Internet, or if you have difficulty accessing forms on-line, you may contact the CDC Procurement and Grants Office Technical Information Management Section (PGO-TIM) staff at 770-488-2700. Application forms can be mailed to you.

2. Content and Form of Application Submission Letter of Intent (LOI)

CDC requests that you send a LOI if you intend to apply for this program. Although the LOI is not required, not binding, and does not enter into the review of your subsequent application, the LOI will be used to gauge the level of interest in this program, and to allow CDC to plan the application review. Your LOI must be written in the following format:

• Maximum number of pages: Two

• Font size: 12-point unreduced

• Paper size: 8.5 by 11 inches

• Single Spaced

• Page margin size: One inch

• Printed only on one side of page

• Written in English, avoid jargon

Your LOI must contain the following information:

• Descriptive title of the proposed research

• Name, address, E-mail address, and telephone number of the Principal Investigator

• Names of other key personnel

• Participating institutions

• Number and title of this Program Announcement (PA)

Application: Follow the PHS 398 application instructions for content and formatting of your application. See all attachments of this announcement as it is posted on the CDC Web site for guidance on how to complete Form 398 for this Program Announcement. The Program Announcement Title and number must appear in the application. For further assistance with the PHS 398 application form, contact GrantsInfo, Telephone (301) 435-0714, email: GrantsInfo@nih.gov.

You must include a research plan with your application. The research plan should be no more than 25 pages (8.5″ x 11″ in size), single-spaced, printed on one side only, with one-inch margins on all sides, and unreduced 12-point font.

Your application will be evaluated on the criteria listed under Section V. Application Review Information, so it is important to follow them, as well as the Research Objectives and the Administrative and National Policy Requirements (AR's), in laying out your research plan. Your research plan should address activities to be conducted over the entire project period.

The research plan should consist of the following information:

1. Abstract. Provide a one page brief description of proposed research activities and project outcomes. It is important to include an abstract that reflects the project's focus, because the abstract will be used to help determine the responsiveness of the application.

2. Goals and Objectives. Describe the goals and objectives the proposed research is designed to achieve in the short and long term. Specific research questions and hypotheses should also be included. In addition, the research plan should include an outline of a three-year plan with timeline.

3. Program Participants. Describe the study population for the proposed research and how participants will be selected (i.e., sampling strategy). In addition, the research plan should provide evidence that the recipient (or a collaborating partner) has access to the study population, and that the participation by the study population will be adequate to test hypotheses.

4. Methods. Describe the proposed study design; methods, and analysis plan to test the proposed study hypotheses.

5. Project Management. Provide evidence of the expertise, capacity, and existing staff necessary to successfully conduct the research. Each existing or proposed position for the project should be described by job title, function, general duties, level of effort and allocation of time. Management operation principles, structure, and organization should also be noted.

6. Collaborative Efforts. List and describe the current and proposed collaborations with government, health, or youth agencies, community- or faith-based organizations, minority organizations, and other researchers. Include letters of support and memoranda of understanding that specify the nature of past, present, and proposed collaborations, and the products/services/activities that will be provided by and to the applicant.

7. Data Sharing and release: Describe plans for the sharing and release of data (See AR-25 for additional information).

8. Project Budget. Provide a detailed budget for each activity undertaken, with accompanying justification of all operating expenses that is consistent with the stated objectives and planned activities of the project. This announcement does not use the modular budget format. The budget should include at least one trip per year to CDC for program related meetings.

You are required to have a Dun and Bradstreet Data Universal Numbering System (DUNS) number to apply for a grant or cooperative agreement from the Federal government. Your DUNS number must be entered in item 11 of the face page of the PHS 398 application form. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

3. Submission Dates and Times

LOI Deadline Date: December 29, 2003.

Application Deadline Date: February 17, 2004.

Explanation of Deadlines: Applications must be received in the CDC Procurement and Grants Office by 4 p.m. Eastern Time on the deadline date. If you send your application by the United States Postal Service or commercial delivery services, you must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

This announcement is the definitive guide on application submission address and deadline. It supersedes information provided in the application instructions. If your application does not meet the deadline above, it will not be eligible for review, and will be discarded. You will be notified that you did not meet the submission requirements.

CDC will not notify you upon receipt of your application. If you have a question about the receipt of your application, first contact your courier. If you still have any questions, contact the PGO-TIM staff at: 770-488-2700. Before calling, please wait two to three days after the application deadline. This will allow time for applications to be processed and logged.

4. Intergovernmental Review: Executive Order 12372 does not apply to this program.

5. Funding Restrictions: Restrictions, which must be taken into account while writing your budget, are as follows: None

If you are requesting indirect costs in your budget, you must include a copy of your indirect cost rate agreement. If your indirect cost rate is a provisional rate, the agreement must be less than 12 months of age.

Awards will not allow reimbursement of pre-award costs.

6. Other Submission Requirements

LOI Submission Address: Submit your LOI by express mail, delivery service, fax, or E-mail to: Robin Forbes, National Center for Injury Prevention and Control, Centers for Disease Control and Prevention, 4770 Buford Hwy, NE., Mailstop K-62, Atlanta, GA 30341, Fax: 770-488-1662. Telephone: 770-488-4037. Email: CIPERT@cdc.gov.

Application Submission Address: Submit the signed original and five copies of your application by mail or express delivery to: Technical Information Management—PA #04060, Procurement and Grants Office, Centers for Disease Control and Prevention, 2920 Brandywine Road, Atlanta, GA 30341.

Applications may not be submitted electronically at this time.

V. Application Review Information

1. Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The goals of CDC-supported research are to advance the understanding of biological systems, improve the control and prevention of disease, and enhance health. In the written comments, reviewers will be asked to evaluate the application in order to judge the likelihood that the proposed research will have a substantial impact on the pursuit of these goals. The scientific review group will address and consider each of the following criteria in assigning the application's overall score, weighting them as appropriate for each application.

The application does not need to be strong in all categories to be judged likely to have major scientific impact and thus serve a high priority score. For example, an investigator may propose to carry out important work that by its nature is not innovative, but is essential to move a field forward.

The criteria are as follows:

Significance: Does this study address an important problem? If the aims of the application are achieved, how will scientific knowledge be advanced? What will be the effect of these studies on the concepts or methods that drive this field?

Approach: Are the conceptual framework, design, methods, and analyses adequately developed, scientifically rigorous, well-integrated, and appropriate to the aims of the project? Does the applicant acknowledge potential problem areas and consider alternative tactics?

Innovation: Does the project employ novel concepts, approaches or methods? Are the aims original and innovative? Does the project challenge existing paradigms or develop new methodologies or technologies?

Investigator: Is the investigator appropriately trained and well suited to carry out this work? Is the work proposed appropriate to the experience level of the principal investigator and other researchers (if any)?

Environment: Does the scientific environment in which the work will be done contribute to the probability of success? Does the proposed research take advantage of unique features of the scientific environment or employ useful collaborative arrangements? Is there evidence of institutional support?

Additional Review Criteria:

Protection of Human Subjects from Research Risks: Does the application adequately address the requirements of Title 45 CFR Part 46 for the protection of human subjects? This will not be scored, however, an application can be disapproved if the research risks are sufficiently serious and protection against risks is so inadequate as to make the entire application unacceptable.

Inclusion of Women and Minorities in Research: Does the application adequately address the CDC Policy requirements regarding the inclusion of women, ethnic, and racial groups in the proposed research? This includes: (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits.

Inclusion of Children as Participants in Research Involving Human Subjects:

The NIH maintains a policy that children (i.e., individuals under the age of 21) must be included in all human subjects research, conducted or supported by the NIH, unless there are scientific and ethical reasons not to include them. This policy applies to all initial (Type 1) applications submitted for receipt dates after October 1, 1998.

All investigators proposing research involving human subjects should read the “NIH Policy and Guidelines” on the inclusion of children as participants in research involving human subjects that is available at: http://grants.nih.gov/grants/funding/children/children.htm.

Budget: The reasonableness of the proposed budget and the requested period of support in relation to the proposed research.

2. Review and Selection Process: Applications will be reviewed for completeness by the Procurement and Grants Office (PGO) and for responsiveness by the NCIPC. Incomplete applications and applications that are non-responsive will not advance through the review process. Applicants will be notified that their application did not meet submission requirements.

Applications that are complete and responsive to the PA will be subjected to a preliminary evaluation (streamline review) by a peer review committee, the Initial Review Group (IRG) convened by NCIPC, to determine if the application is of sufficient technical and scientific merit to warrant further review by the IRG. CDC will withdraw from further consideration applications judged to be noncompetitive and promptly notify the principal investigator or program director and the official signing for the applicant organization. Those applications judged to be competitive will be further evaluated by a dual review process.

1. The primary review will be a peer review conducted by the IRG. All applications will be reviewed for scientific merit in accordance with the review criteria listed above. Applications will be assigned a priority score based on the National Institutes of Health (NIH) scoring system of 100-500 points.

2. The secondary review will be conducted by the Science and Program Review Subcommittee (SPRS) of NCIPC's Advisory Committee for Injury Prevention and Control (ACIPC). The ACIPC Federal agency experts will be invited to attend the secondary review, and will receive modified briefing books (i.e., abstracts, strengths and weaknesses from summary statements, and project officer's briefing materials). ACIPC Federal agency experts will be encouraged to participate in deliberations when applications address overlapping areas of research interest, so that unwarranted duplication in federally-funded research can be avoided and special subject area expertise can be shared. The NCIPC Division Associate Directors for Science (ADS) or their designees will attend the secondary review in a similar capacity as the ACIPC Federal agency experts to assure that research priorities of the announcement are understood and to provide background regarding current research activities. Only SPRS members will vote on funding recommendations, and their recommendations will be carried to the entire ACIPC for voting by the ACIPC members in closed session. If any further review is needed by the ACIPC, regarding the recommendations of the SPRS, the factors considered will be the same as those considered by the SPRS.

The committee's responsibility is to develop funding recommendations for the NCIPC Director based on the results of the primary review, the relevance and balance of proposed research relative to the NCIPC programs and priorities, and to assure that unwarranted duplication of federally-funded research does not occur. The secondary review committee has the latitude to recommend to the NCIPC Director, to reach over better-ranked proposals in order to assure maximal impact and balance of proposed research. The factors to be considered will include:

a. The results of the primary review including the application's priority score as the primary factor in the selection process.

b. The relevance and balance of proposed research relative to the NCIPC programs and priorities.

c. The significance of the proposed activities in relation to the priorities and objectives stated in “Healthy People 2010,” the Institute of Medicine report, “Reducing the Burden of Injury,” and the “CDC Injury Research Agenda.”

All awards will be determined by the Director of the NCIPC based on priority scores assigned to applications by the IRG, recommendations by the secondary review committee, e.g., NCIPC's Advisory Committee for Injury Prevention and Control (ACIPC), consultation with NCIPC senior staff, and the availability of funds.

VI. Award Administration Information

1. Award Notices: Successful applicants will receive a Notice of Grant Award (NGA) from the CDC Procurement and Grants Office. The NGA shall be the only binding, authorizing document between the recipient and CDC. The NGA will be signed by an authorized Grants Management Officer, and mailed to the recipient fiscal officer identified in the application.

2. Administrative and National Policy Requirements:

45 CFR Part 74 and 92

For more information on the Code of Federal Regulations, see the National Archives and Records Administration at the following Internet address: http://www.access.gpo.gov/nara/cfr/cfr-table-search.html.

The following additional requirements apply to this project:

AR-1 Human Subjects Requirements

AR-2 Requirements for Inclusion of Women and racial and Ethnic Minorities in Research

AR-9 Paperwork Reduction Act Requirements Projects that involve the collection of information from ten or more persons and that are funded by cooperative agreements will be subject to review and approval by the Office of Management and Budget (OMB).

AR-10 Smoke-Free Workplace Requirements

AR-11 Healthy People 2010

AR-12 Lobbying Restrictions

AR-13 Prohibition on Use of CDC Funds for Certain Gun Control Activities

AR-21 Small, Minority, Women-Owned Businesses

AR-22 Research Integrity

AR-23 States and Faith-Based Organizations

AR-24 Health Insurance Portability and Accountability Requirements

AR-25 Release and Sharing of Data

Starting with the December 1, 2003 receipt date, all NCIPC funded investigators seeking more than $250,000 in total costs in a single year are expected to include a plan describing how the final research data will be shared/released or explain why data sharing is not possible. Details on data sharing/release, including the timeliness and name of the project data steward, should be included in a brief paragraph immediately following the Research Plan Section of the PHS 398 form. References to data sharing/release may also be appropriate in other sections of the application (e.g. background and significance, human subjects requirements, etc.) The content of the data sharing/release plan will vary, depending on the data being collected and how the investigator is planning to share the data. The data sharing/release plan will not count towards the application page limit and will not factor into the determination scientific merit or priority scores. Investigators should seek guidance from their institutions, on issues related to institutional policies, local IRB rules, as well as local, state and Federal laws and regulations, including the Privacy Rule.

Further detail on the requirements for addressing data sharing in applications for NCIPC funding may be obtained by contacting NCIPC program staff or visiting the NCIPC Internet Web site: at http://www.cdc.gov/ncipc/osp/sharing_policy.htm.

Additional information on these requirements can be found on the CDC Web site at the following Internet address: http://www.cdc.gov/od/pgo/funding/ARs.htm.

3. Reporting: You must provide the CDC with original and two copies of the following reports:

1. Interim progress report (PHS 2590, OMB Number 0925-0001, rev. 5/2001) no less than 90 days before the end of the budget period. The progress report will serve as your non-competing continuation application, and must contain the following elements:

a. Current Budget Period Activities Objectives

b. Current Budget Period Financial Progress.

c. New Budget Period Program Proposed Activity Objectives.

d. Detailed Line-Item Budget and Justification.

e. Additional Requested Information.

2. Financial status report, no more than 90 days after the end of the budget period.

3. Final financial status and performance reports, no more than 90 days after the end of the project period.

VII. Agency Contacts

For general questions about this announcement, contact: Technical Information Management Section, Procurement and Grants Office, Centers for Disease Control and Prevention, 2920 Brandywine Road, Atlanta, GA 30341-4146, Telephone: (770) 488-2700.

For questions about scientific/research program technical issues contact, Marci Feldman, M.S., Project Officer, Division of Violence Prevention, National Center for Injury Prevention and Control, Centers for Disease Control and Prevention, 4770 Buford Highway, NE MS K-60, Atlanta, GA 30341, Telephone: (770) 488-4478. FAX: (770) 488-4349. Email: MFeldman@cdc.gov.

For questions about peer review issues, contact, Gwen Cattledge, Scientific Review Administrator, National Center for Injury Prevention and Control, Centers for Disease Control and Prevention, 4770 Buford Hwy, NE, Mailstop K-02, Atlanta, GA 30341, Telephone: 770-488-1430. Email: gxc8@cdc.gov.

For budget assistance, contact: James Masone, Contracts Specialist, Procurement and Grants Office, Centers for Disease Control and Prevention, 2920 Brandywine Road, Atlanta, GA 30341-4146, Telephone: 770-488-2736. FAX: 770-488-2671. Email: zft2@cdc.gov.

VIII. Other Information

References:

1. National Center for Injury Prevention and Control. CDC Injury Research Agenda. Atlanta, GA: Centers for Disease Control and Prevention, 2002.

2. Roberts DF, Foehr UG, Rideout VJ, Vrodie M. Kids & media @ the new millennium. Menlo Park, CA: Henry J. Kaiser Family Foundation, 1999.

3. Woodward EH. Media in the home 2000: The fourth annual survey of parents and children (Survey Series No. 7). Philadelphia, PA: The Annenberg Public Policy Center of the University of Pennsylvania, 1998.

4. Wilson BJ, Kunkel D, Linz D, Potter J, Donnerstein E, Smith SL, Blumenthal E, Gray T. Violence in television programming overall: University of California, Santa Barbara study. In Seawall M. (Ed.), National television violence study (Vol. 1, pp. 3-184). Thousand Oaks, CA: Sage Publications, 1997.

Wilson BJ, Kunkel D, Linz D, Potter J, Donnerstein E, Smith SL, Blumenthal E, Berry M. Violence in television programming overall: University of California, Santa Barbara study. In Seawall M. (Ed.), National television violence study (Vol. 2, pp. 3-204). Thousand Oaks, CA: Sage Publications, 1998.

Dated: November 20, 2003.
Edward Schultz,
Acting Director, Procurement and Grants Office, Centers for Disease Control and Prevention.

[FR Doc. 03-29632 Filed 11-26-03; 8:45 am]

BILLING CODE 4163-18-P